DEPARTMENT OF DEFENSE

Defense Acquisition Regulations System

48 CFR Parts 225 and 252

RIN 0750-AG31

Defense Federal Acquisition Regulation Supplement; Trade Agreements—Costa Rica and Peru (DFARS Case 2008-D046)

AGENCY: Defense Acquisition Regulations System, Department of Defense (DoD).

ACTION: Final rule.

SUMMARY: DoD is converting the interim rule issued on July 29, 2009 (74 FR 37650) to a final rule without change. The interim rule amended the Defense Federal Acquisition Regulation Supplement (DFARS) to implement the Dominican Republic—Central America—United States Free Trade Agreement with respect to Costa Rica, and the United States-Peru Trade Promotion Agreement. The trade agreements waive the applicability of the Buy American Act for some foreign supplies and construction materials and specify procurement procedures designed to ensure fairness.

DATES: Effective date: January 20, 2010.

FOR FURTHER INFORMATION CONTACT: Ms. Amy Williams, Defense Acquisition Regulations System, OUSD(AT&L)DPAP (DARS), 3060 Defense Pentagon, Room 3B855, Washington, DC 20301-3060. Telephone 703-602-0328; facsimile 703-602-0305. Please cite DFARS Case 2008-D046.

SUPPLEMENTARY INFORMATION:

A. Background

This finalizes, without change, the interim rule that implemented the Dominican Republic—Central America—United States Free Trade Agreement with respect to Costa Rica and the United States-Peru Trade Promotion Agreement. The trade agreements waive the applicability of the Buy American Act for DoD acquisition of some foreign supplies and construction materials from Costa Rica and Peru and specify procurement procedures designed to ensure fairness.

In addition, the interim rule amended DFARS 225.003 to exclude Oman from the definition of “Free Trade Agreement country” for purposes of DoD acquisitions.

This rule was not subject to Office of Management and Budget review under Executive Order 12866, dated September 30, 1993.

B. Regulatory Flexibility Act

DoD certifies that this rule will not have a significant economic impact on a substantial number of small entities within the meaning of the Regulatory Flexibility Act, 5 U.S.C. 601, et seq. Although the rule opens up DoD acquisition to the products of Costa Rica and Peru, DoD does not estimate a significant economic impact on U.S. small businesses. DoD applies the trade agreements to only those non-defense items listed at DFARS 225.401-70, and acquisitions that are set aside for small businesses are exempt from application of the trade agreements. No public comments were received relating to the burden on small businesses.

C. Paperwork Reduction Act

The interim rule affected the certification and information collection requirements in the provisions at DFARS 252.225-7020 and 252.225-7035, currently approved under Office of Management and Budget Control Number 0704-0229. The impact, however, was negligible.

List of Subjects in 48 CFR Parts 225 and 252

Government procurement.

Amy G. Williams,
Editor, Defense Acquisition Regulations System.

PARTS 225 AND 252—[AMENDED]

Interim Rule Adopted as Final Without Change

Accordingly, the interim rule amending 48 CFR parts 225 and 252, which was published at 74 FR 37650 on July 29, 2009, is adopted as a final rule without change.

[FR Doc. 2010-934 Filed 1-19-10; 8:45 am]

BILLING CODE 5001-08-P